GENERAL SERVICES ADMINISTRATION

Notice of Intent To Prepare an Environmental Impact Statement

AGENCY: U.S. General Services Administration (GSA), National Capital Region.

ACTION: Notice.

SUMMARY: Pursuant to the requirements of the National Environmental Policy Act of 1969 (NEPA), 42 United States Code (U.S.C.) 4321-4347; the Council on Environmental Quality Regulations (Code of Federal Regulations (CFR), Title 40, chapter V, parts 1500-1508); GSA Order PBS P 1095.1F (Environmental considerations in decision-making, dated October 19, 1999); and the GSA Public Buildings Service NEPA Desk Guide, dated October 1999, GSA plans to prepare an Environmental Impact Statement (EIS) for the amended Department of Homeland Security (DHS) Consolidation Master Plan at St. Elizabeths in Southeast Washington, DC. GSA will be initiating related consultation under Sections 106 and 110 of the National Historic Preservation Act (16 U.S.C. 470(f) and 470(h-2)), for the amended Master Plan consistent with the Programmatic Agreement concluded on December 9, 2008.

FOR FURTHER INFORMATION CONTACT: Denise Decker, NEPA Lead, General Services Administration, National Capital Region, at (202) 538-5643. Also, please call this number if special assistance is needed to attend and participate in the scoping meeting.

SUPPLEMENTARY INFORMATION: The notice of intent is as follows:

Notice of Intent to prepare an Environmental Impact Statement (EIS) for the amended Department of Homeland Security (DHS) Consolidation Master Plan at St. Elizabeths in Southeast Washington, DC.

GSA intends to prepare an EIS to analyze the potential impacts resulting from the amendment of the DHS Consolidation Master Plan, which consists of the development of 750,000 gross square feet (GSF) of secure office space plus associated parking on what is known as the north parcel of the St. Elizabeths East Campus. The primary purpose of this action is to complete the consolidation of DHS mission functions comprising the Department's Headquarters offices at St. Elizabeths for a total of 4.5 million GSF of secure office and shared use space plus associated parking.

Background

DHS previously identified a need to consolidate a minimum critical mass of 4.5 million GSF of secure office space, plus parking, to meet the Department's mission requirements for its consolidated Headquarters in furtherance of developing a more cost-effective, efficient, and functional real estate portfolio in the National Capital Region. DHS' scattered current housing prevents it from accomplishing its mission. This extreme dispersion has also resulted in significant inefficiencies in daily operations, and these inefficiencies have been magnified considerably at the most important moments—when the Department must act as a nimble and integrated team responding to significant natural disasters or terrorist threats.

In response, GSA looked at alternative locations for consolidating DHS' Headquarters offices and concluded that St. Elizabeths was the most viable site for this consolidation. During consultation under Section 106 of the National Historic Preservation Act, as well as with other Federal agencies, the consolidation project was determined to be of less impact to the St. Elizabeths National Historic Landmark if DHS' offices extended across both the West and East Campuses. St. Elizabeths was listed in the National Register on April 26, 1979, designated a National Historic Landmark on December 14, 1990, and received District of Columbia Historic District Designation in May of 2005. As part of its November 7, 2008 Final EIS, GSA considered an alternative, Alternative 5, which assessed placing development on both campuses to create a unified DHS Headquarters.

GSA issued a Record of Decision on December 16, 2008, for the project Master Plan to consolidate 3.8 million GSF of secure office and shared use space, plus parking, on the St. Elizabeths West Campus. As part of the Final EIS for this action, GSA also assessed, on a programmatic level, the impacts of constructing 750,000 GSF of office plus associated parking on the St. Elizabeths East Campus. GSA noted in its Record of Decision that an EIS tiered to the November 7, 2008 Final EIS would be prepared for the East Campus in accordance with 40 CFR 1502.20 and 1502.28. The National Capital Planning Commission approved the project Master Plan incorporating Alternative 5 on January 8, 2009.

Scoping Process

In accordance with NEPA, a scoping process will be conducted to (i) aid in determining the alternatives to be considered and the scope of issues to be addressed, and (ii) identify the significant issues related to the amended Master Plan for the DHS consolidation at St. Elizabeths. “Scoping” is a tool for identifying the issues that should be addressed in the EIS and Section 106 consultation process. Scoping allows the public to help define priorities and express stakeholder and community issues to the agency through oral and written comments as described in 40 CFR part 1500.1(b). Scoping will be accomplished through a public scoping meeting, direct mail correspondence to potentially interested persons, agencies, and organizations, and meeting with agencies having an interest in the amended Master Plan. It is important that Federal, regional and local agencies, and interested individuals and groups take this opportunity to identify environmental concerns that should be addressed during the preparation of the Draft EIS.

GSA is also using the NEPA scoping process to facilitate consultation with the public under Section 106 of the National Historic Preservation Act (36 CFR part 800 (Protection of Historic Properties)). GSA welcomes comments from the public to ensure that it takes into account the effects of its action on historic and cultural resources.

Public Scoping Meeting

The public scoping meeting will be held on October 8, 2009, from 6 to 8:30 p.m., at the Matthews Memorial Baptist Church, John H. Kearney, Sr. Fellowship Hall, located at 2616 Martin Luther King, Jr. Avenue, SE. in Southeast Washington, DC. The meeting will be an informal open house, where visitors may come, receive information, and give comments. GSA will publish notices in the Washington Post, Washington Times, and East of the River (Capital Community News) announcing this meeting approximately one to two weeks prior to the meeting. After scoping comments are received, GSA will prepare a scoping report, available to the public, which will summarize the comments received for incorporation into the EIS and Section 106 processes.

Written Comments

Agencies and the public are encouraged to provide written comments on the scoping issues in addition to or in lieu of giving their comments at the public scoping meeting. Written comments regarding the environmental analysis for the amended Master Plan must be postmarked no later than October 16, 2009, and sent to the following address: General Services Administration, National Capital Region, Attention: Denise Decker, NEPA Lead, 301 7th Street, SW., Room 7600, Washington, DC 20407. Fax (202) 708-7671. denise.decker@gsa.gov.

Dated: September 9, 2009.
Patricia T. Ralston,
Director, Portfolio Management, National Capital Region, Public Buildings Service.

[FR Doc. E9-22224 Filed 9-14-09; 8:45 am]

BILLING CODE 6820-23-P